DEPARTMENT OF HEALTH AND HUMAN SERVICES

Centers for Disease Control and Prevention

Extension of Funding to Special Olympics

AGENCY: Centers for Disease Control and Prevention (CDC), Department of Health and Human Services (HHS).

ACTION: Notice.

SUMMARY: The Centers for Disease Control and Prevention (CDC) within the Department of Health and Human Services announces the intent to extend the fund to Special Olympics Inc. To improve knowledge and awareness about the usefulness and effectiveness of health promotion programs and policy, systems and environmental improvements for people with intellectual disabilities.

DATES: Funding is extended from September 30, 2017 to March 31, 2018.

ADDRESSES:

Agency Contacts: CDC encourages inquiries concerning this announcement. For programmatic technical assistance, contact: Mary Helen Witten, Project Officer, Department of Health and Human Services, Centers for Disease Control and Prevention, National Center on Birth Defects and Developmental Disabilities, 1600 Clifton Road NE., Mailstop E-88, Atlanta, GA 30333, Email: muw4@cdc.gov.

For financial, grants management, or budget assistance, contact: Barbara Strother, Grants Management Specialist, Department of Health and Human Services, Centers for Disease Control and Prevention, Office of Financial Resources, 2920 Brandywine Road, Atlanta, GA 30341-4146, Email: kty4@cdc.gov.

FOR FURTHER INFORMATION CONTACT: L.C. Browning, Office of Grants Services (OGS), Technical Information Management Section (TIMS), ogstims@cdc.gov, 770-498-2700.

SUPPLEMENTARY INFORMATION:

Part I. Overview Information

This notice announces the Centers for Disease Control and Prevention's (CDC) intent to extend the fund to Special Olympics Inc.

Federal Agency Name: Centers for Disease Control and Prevention (CDC), Department of Health and Human Services (DHHS).

Funding Opportunity Title: National Centers on Health Promotion for People with Disabilities.

Announcement Type: Cooperative Agreement.

Agency Funding Opportunity Number: CDC-RFA-DD16-1602.

Catalog of Federal Domestic Assistance (CFDA) Number: 93.184 Disabilities Prevention.

Dates: September 30, 2017-March 31, 2018.

Part II. Full Text

Award Information:

Eligibility Information: These funds will be awarded to Special Olympics, Inc. under Funding Opportunity Announcement DD16-1602, National Centers on Health Promotion for People with Disabilities. Under the proposed supplement, the recipient has been identified as the only qualified organization to perform the required activities.

Request Application Package: The application package will be distributed via an email attachment to the recipient by the Grants Management Specialist. Applications are due August 11, 2017.

Application Package: August 11, 2017.

Submission Dates and Times: August 11, 2017, 11:59 p.m. Eastern Time.

Reports and Proposals must be submitted by August 11, 2017 for the supplemental period (9/30/2017 through 3/31/2018). Late or incomplete reports could result in an enforcement action such as a delay in the award. CDC will accept requests for a deadline extension on rare occasions and after adequate justification has been provided.

General Application Packet Tips:

• Properly label each item of the application packet

• Each section should use 1.5 spacing with one-inch margins

• Number all narrative pages only

• This report must not exceed 20 pages excluding administrative reporting; web links are allowed

• Where the instructions on the forms conflict with these instructions, follow these instructions

1. CDC requires the use of PDF format for ALL attachments.

2. Use of file formats other than PDF may result in the file being unreadable by CDC staff.

Checklist of Required Contents of Application Packet:

1. SF-424 Application for Federal Domestic Assistance—Short Organizational Form

2. SF-424A Budget Information-Non-Construction

3. Itemized Budget Jus tification

4. Certifications and Assurances

1. SF-424 Application for Federal Domestic Assistance—Short Organizational Form

Complete all sections:

A. In addition to inserting the legal name of your organization in Block #5a, insert the CDC Award Number provided in the CDC Notice of Award. Failure to provide your award number could cause delay in processing your application.

B. Please insert your organization's Business Official information in Block #8.

2. SF-424A Budget Information and Justification

A. Complete all applicable sections.

B. Analysis of Remaining Time and Funds.

1. Based on the current rate of obligation, if it appears there will be un-obligated funds at the end of the current budget period, provide detailed actions that will be taken to obligate this amount.

2. If it appears there will be insufficient funds, provide a detailed justification of the shortfall and list the actions taken to bring the obligations in line with the authorized funding level.

C. The proposed budget should be based on the federal funding level stated in the letter from CDC.

D. The budget justification must be prepared in the general form, format, and to the level of detail as described in the CDC Budget Guidance. The sample budget guidance is provided on CDC's internet at: http://www.cdc.gov/grants/applying/application-resources.html.

E. For any new proposed subcontracts provide the information specified in the Budget Guidance.

F. When non-federal matching is required, provide a line-item list of non-federal contributions including source, amount, and/or value of third party contributions proposed to meet a matching requirement.

G. Applicants should send their application via email attachment(s) to Barbara Strother at kty4@cdc.gov.

3. Indirect Cost Rate Agreement

Requirements for development and submission of indirect (F&A) cost rate proposals and cost allocation plans for all grantees are contained in 45 CFR part 75, Appendices III through VII.

4. Program Requirements

Project Narrative: Provide a summary of planned activities to be conducted during the remainder of Year 2 for the period September 30, 2017-March 31, 2018.

Section I. New Budget Period Proposed Objectives and Activities

Provide a detailed description of proposed activities, objectives, and performance measures for the new budget period as described below.

A. List the proposed objectives for the upcoming budget period. These objectives must support the intent of the original Funding Opportunity Announcement (FOA) or Program Announcement (PA).

B. Each objective and activity must contain a performance or outcome measure that assesses the effectiveness of the project.

C. Provide an updated work plan that cross walks to the objectives and associated performance measures, program strategies and activities, target dates for completion, and person(s) responsible for the activities. Awardees are strongly encouraged to use the sample Excel-based work plan provided by the Disability and Health Branch. The work plan must be uploaded as a PDF file and included in the appendix.

Any proposed changes in programmatic priorities must be within the scope of the approved funding opportunity announcement and Notice of Award. CDC will work with each awardee to refine and consolidate work plans within 30 days of award as needed.

Review and Selection Process

A merit review will be conducted by the CDC Program Office. The merit review will cover technical and cost matters. The initial application received an objective review to ensure recipient complies with all the activities required. The recipient was selected thru a competitive process during the initial FOA award.

Terrance Perry,
Director, Office of Grants Services, Centers for Disease Control and Prevention.

[FR Doc. 2017-15161 Filed 7-20-17; 8:45 am]

BILLING CODE 4163-18-P